DEPARTMENT OF STATE

[Public Notice 5508]

Defense Trade Advisory Group; Notice of Open Meeting

AGENCY: Department of State.

ACTION: Notice.

SUMMARY: The Defense Trade Advisory Group (DTAG) will meet in open session from 9 a.m. to 12 noon on Thursday, September 21, 2006, in the Dean Acheson Auditorium at the U.S. Department of State, Harry S. Truman Building, Washington, DC. Entry and registration will begin at 8:15. Please use the building entrance located at 23rd Street, NW., Washington, DC, between C & D streets. The membership of this advisory committee consists of private sector defense trade specialists, appointed by the Assistant Secretary of State for Political-Military Affairs, who advise the Department on policies, regulations, and technical issues affecting defense trade. The purpose of the meeting will be to discuss current defense trade issues and topics for further study. The next DTAG Plenary meeting is scheduled for March 8, 2007 from 9 a.m. to 12 p.m. in the East Auditorium at the U.S. Department of State, Harry S. Truman Building, Washington, DC.

Although public seating will be limited due to the size of the conference room, members of the public may attend this open session as seating capacity allows, and will be permitted to participate in the discussion in accordance with the Chairman's instructions. Members of the public may, if they wish, submit a brief statement to the committee in writing.

As access to the Department of State facilities is controlled, persons wishing to attend the meeting must notify the DTAG Executive Secretariat by COB Thursday, September 14, 2006. If notified after this date, the DTAG Secretariat cannot guarantee that the Department's Bureau of Diplomatic Security can complete the necessary processing required to attend the September 21 plenary.

Each non-member observer or DTAG member needing building access that wishes to attend this plenary session should provide: his/her name; company or organizational affiliation; phone number; date of birth; and identifying data such as driver's license number, U.S. Government ID, or U.S. Military ID, to the DTAG Secretariat contact person, Nicholas Memos, via e-mail at MemosNI@state.gov. DTAG members planning to attend the plenary session should notify the DTAG Secretariat contact person, Nicholas Memos, at the e-mail provided above. A RSVP list will be provided to Diplomatic Security and the Reception Desk at the 23rd Street Entrance. Attendees must present a driver's license with photo, a passport, a U.S. Government ID, or other valid photo ID for entry.

FOR FURTHER INFORMATION CONTACT: Nicholas Memos, PM/DDTC, SA-1, 12th Floor, Directorate of Defense Trade Controls, Bureau of Political-Military Affairs, U.S. Department of State, Washington, DC 20522-0112; telephone (202) 663-2804; fax (202) 261-8199; or e-mail MemosNI@state.gov.

Dated: August 16, 2006.
Robert W. Maggi,
Executive Secretary, Defense Trade Advisory Group, Department of State.

[FR Doc. E6-13882 Filed 8-21-06; 8:45 am]

BILLING CODE 4710-25-P